FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 012474-002.

Agreement Name: ONE/ELJSA Space Charter Agreement.

Parties: Ocean Network Express Pte. Ltd.; and Evergreen Line Joint Service Agreement.

Filing Party: Joshua Stein; Cozen O'Connor.

Synopsis: The amendment would revise the agreement to reduce the total amount of space that will be provided by ONE to ELJSA and change the service that such space will be provided on to the FP1 service. The amendment would also revise the agreement to replace references to NYK with ONE and delete provisions of the agreement relating to the now complete transition to ONE. The parties request expedited review.

Proposed Effective Date: 10/16/2021.

Location: https://www2.fmc.gov/FMC.Agreements.Web/Public/AgreementHistory/1972.

Dated: September 3, 2021.
Rachel E. Dickon,
Secretary.

[FR Doc. 2021-19483 Filed 9-8-21; 8:45 am]

BILLING CODE 6730-02-P